DEPARTMENT OF ENERGY

Federal Energy Regulatory Commission

[Docket No. RP00-289-002]

Tennessee Gas Pipeline Company; Notice of Compliance Filing

October 18, 2000.

Take notice that on October 13, 2000, Tennessee Gas Pipeline Company (Tennessee), tendered for filing as part of its FERC Gas Tariff, Fifth Revised Volume No. 1, Sub Sixteenth Revised Sheet No. 26, and Eleventh Revised Sheet No. 1, to with an effective date August 1, 2000.

Tennessee states that the attached tariff sheets are submitted in compliance with the Commission's Order issued September 28, 2000, in Docket No. RP00-289-001 (September 28th Order). Tennessee Gas Pipeline Company, et al., 92 FERC 61,275 (2000). In the September 28th Order, the Commission directed Tennessee, within 15 days of issuance of the order, to (1) file Sub Sixteenth Revised Sheet No. 26 with the deleted footnote No. 3 from Rate Schedule NET, (2) file Eleventh Revised Sheet No. 1 showing the correct page number for Rate Schedule NET 284 on the Table of Contents.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-27280 Filed 10-23-00; 8:45 am]

BILLING CODE 6717-01-M